OFFICE OF THE UNITED STATES TRADE REPRESENTATIVE

Notice of Cancellation of Meeting of the Industry Trade Advisory Committee on Small and Minority Business (ITAC-11)

AGENCY: Office of the United States Trade Representative.

ACTION: Notice of meeting cancellation.

SUMMARY: A notice was published in the Federal Register dated February 26, 2009, Volume 74 page 8819 and March 4,2009, Volume number 74, Notice 41, page 9438, announcing a meeting of the Industry Trade Advisory Committee on Small and Minority Business (ITAC-11), scheduled for March 9, 2009, from 9 a.m. to 3:30 p.m. The meeting was to be closed to the public from 9 a.m. to 12:30 p.m. and open to the public from 1 p.m. to 3:30 p.m. However, the meeting has been cancelled in its entirety.

FOR FURTHER INFORMATION CONTACT: Laura Hellstern, DFO for ITAC-11 at (202)482-3222, Department of Commerce, 14th Street and Constitution Avenue, NW., Washington, DC.

Lisa Garcia,
Assistant U.S. Trade Representative for Intergovernmental Affairs and Public Liaison.

[FR Doc. E9-5025 Filed 3-5-09; 4:15 pm]

BILLING CODE 3190-W9-P